ENVIRONMENTAL PROTECTION AGENCY

[FRL-8720-6]

Lead and Copper Rule Remaining Long-Term Issues Stakeholder Meeting

AGENCY: Environmental Protection Agency (EPA).

ACTION: Notice.

SUMMARY: The U.S. Environmental Protection Agency is giving notice of a public meeting to discuss remaining “long-term” issues with the Lead and Copper Rule. This meeting is open to the public and will provide a forum for public discussion of potential issues that may be appropriate for additional action.

DATES: The public meeting will be held on Tuesday, October 14 and Wednesday, October 15, 2008. Attendees should register for the meeting by contacting Junie Percy of IntelliTech Systems, Inc. at (937) 427-4148 (x210) or by e-mail to junie.percy@itsysteminc.com no later than October 6, 2008.

ADDRESSES: The meeting will be held at The Carnegie Institution for Science, 1530 P Street, NW., Washington, DC 20005.

FOR FURTHER INFORMATION CONTACT: For administrative meeting information, contact Junie Percy of IntelliTech Systems, Inc. at (937) 427-4148 (x210) or by e-mail to junie.percy@itsysteminc.com. For Technical information, contact Rebecca Allen, Office of Water, Office of Ground Water and Drinking Water, Standards and Risk Management Division, Targeting and Analysis Branch, U.S. EPA, 1201 Constitution Ave., NW., Washington, DC 20460 at (202) 564-4689 or by e-mail at allen.rebeccak@epa.gov.

Special Accommodations

For information on access or accommodations for individuals with disabilities, please contact Rebecca Allen at (202) 564-4689 or by e-mail at allen.rebeccak@epa.gov. Please allow at least 10 days prior to the meeting to give EPA time to process your request.

Dated: September 19, 2008.
Nanci E. Gelb,
Acting Office Director, Office of Ground Water and Drinking Water.

[FR Doc. E8-22554 Filed 9-24-08; 8:45 am]

BILLING CODE 6560-50-P